FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 5, 2010.

A. Federal Reserve Bank of Kansas City (Dennis Denney, Assistant Vice President) 1 Memorial Drive, Kansas City, Missouri 64198-0001:

1. Stacey Seibel, Hays, Kansas, as trustee of the Alan E. States 2010 Irrevocable Trust and the Carolyn Lea States 2010 Irrevocable Trust; to acquire control of Kansas Pacific Investments, LLC, and thereby indirectly acquire control of First National Bank, both in Hays, Kansas.

Board of Governors of the Federal Reserve System, April 15, 2010.
Robert deV. Frierson,
Deputy Secretary of the Board.

[FR Doc. 2010-9060 Filed 4-19-10; 8:45 am]

BILLING CODE 6210-01-S